DEPARTMENT OF TRANSPORTATION

Federal Aviation Administration

14 CFR Part 39

[Docket No. FAA-2012-0335; Directorate Identifier 2011-NM-252-AD]

RIN 2120-AA64

Airworthiness Directives; Bombardier, Inc. Airplanes

AGENCY: Federal Aviation Administration (FAA), DOT.

ACTION: Notice of proposed rulemaking (NPRM).

SUMMARY: We propose to revise an existing airworthiness directive (AD) that applies to certain Bombardier Model CL-600-2B19 (Regional Jet Series 100 & 440) airplanes; all Model CL-600-2C10 (Regional Jet Series 700, 701, & 702) airplanes; all Model CL-600-2D15 (Regional Jet Series 705) airplanes; and all Model CL-600-2D24 (Regional Jet Series 900) airplanes. The existing AD currently requires replacing certain water accumulator assemblies having a certain part installed on the pitot and static lines of the air data computer (ADC). Since we issued that AD, an error was discovered in one service document number, and we have determined that credit for accomplishing actions in another erroneously cited service document should be removed from that AD. This proposed AD would correct the erroneous service document number and remove the other erroneously cited service document from that AD. We are proposing this AD to prevent pitot-static tubing from becoming partially or completely blocked by water, which could result in erroneous airspeed and altitude indications and consequent loss of control of the airplane.

DATES: We must receive comments on this proposed AD by June 4, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; phone: 514-855-5000; fax: 514-855-7401; email: thd.crj@aero.bombardier.com; Internet: http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe & Mechanical Systems Branch, ANE-171, New York Aircraft Certification Office (ACO), FAA, 1600 Stewart Avenue, Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2012-0335; Directorate Identifier 2011-NM-252-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 28, 2011, we issued AD 2011-21-07, Amendment 39-16830 (76 FR 64801, October 19, 2011). That AD required actions intended to address an unsafe condition on the products listed above.

Since we issued AD 2011-21-07, Amendment 39-16830 (76 FR 64801, October 19, 2011), an error was discovered in the document number specified in paragraph (i), “Credit for Actions Accomplished in Accordance with Previous Service Information,” of that AD. The citation in that paragraph should have read “Bombardier Service Bulletin 601R-34-147, Revision A, dated November 3, 2009.” Additionally, we have determined that “Bombardier Service Bulletin 670BA-34-147, dated April 1, 2009,” was incorrectly included in AD 2011-21-07 and should be removed from paragraph (i), “Credit for Actions Accomplished in Accordance with Previous Service Information,” of that AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 1,041 airplanes of U.S. registry.

We estimate the following costs to comply with this proposed AD:

Estimated Costs
Action | Labor cost | Parts cost | Cost per product | Cost on U.S. operators
Replacement [retained actions from AD 2011-21-07, Amendment 39-16830 (76 FR 64801, October 19, 2011)] | 2 work-hours × $85 per hour = $170 | $1,200 | $1,370 | $1,426,170

The new requirements of this proposed AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-21-07, Amendment 39-16830 (76 FR 64801, October 19, 2011), and adding the following new AD:

Bombardier, Inc.: Docket No. FAA-2012-0335; Directorate Identifier 2011-NM-252-AD.

(a) Comments Due Date

We must receive comments by June 4, 2012.

(b) Affected ADs

This AD revises AD 2011-21-07, Amendment 39-16830 (76 FR 64801, October 19, 2011).

(c) Applicability

This AD applies to Bombardier, Inc. Model CL-600-2B19 (Regional Jet Series 100 & 440) airplanes, serial numbers 7003 through 7067 inclusive, 7069 through 7990 inclusive, 8000 through 8107 inclusive, and subsequent; all Model CL-600-2C10 (Regional Jet Series 700, 701, & 702) airplanes; all Model CL-600-2D15 (Regional Jet Series 705) airplanes; and all Model CL-600-2D24 (Regional Jet Series 900) airplanes; certificated in any category.

(d) Subject

Air Transport Association (ATA) of America Code 34: Navigation.

(e) Reason

This AD was prompted by reports of airspeed mismatch between the pilot and co-pilot's airspeed indicators. We are issuing this AD prevent pitot-static tubing from becoming partially or completely blocked by water, which could result in erroneous airspeed and altitude indications and consequent loss of control of the airplane.

(f) Compliance

You are responsible for having the actions required by this AD performed within the compliance times specified, unless the actions have already been done.

(g) Retained Replacement, With Corrections

This paragraph restates the replacement required by paragraph (g) of AD 2011-21-07, Amendment 39-16830 (76 FR 64801, October 19, 2011), with corrections. Within 9 months after November 23, 2011 (the effective date of AD 2011-21-07), do the actions specified in paragraphs (g)(1) and (g)(2) of this AD, as applicable.

(1) For Model CL-600-2B19 (Regional Jet Series 100 & 440) airplanes identified in Bombardier Service Bulletin 601R-34-147, Revision B, dated March 8, 2011: Replace water accumulator assemblies having part numbers (P/N) 50029-001, 9435015, 50030-001, and 9435014 installed on the pitot and static lines of the air data computer (ADC) with new or serviceable water accumulator assemblies having P/N 50036-001, in accordance with the Accomplishment Instructions of Bombardier Service Bulletin 601R-34-147, Revision B, dated March 8, 2011.

(2) For Model CL-600-2C10 (Regional Jet Series 700, 701, & 702), CL-600-2D15 (Regional Jet Series 705), and CL-600-2D24 (Regional Jet Series 900) airplanes: Replace water accumulator assemblies having P/N 50033-001 installed on the pitot and static lines of the ADC with new or serviceable water accumulator assemblies having P/N 50036-001, in accordance with the Accomplishment Instructions of Bombardier Service Bulletin 670BA-34-030, Revision B, dated March 23, 2010.

(h) Parts Installation

As of November 23, 2011, no person may install on any airplane a water accumulator assembly, P/N 50029-001, 9435015, 50030-001, or 9435014 for Model CL-600-2B19 (Regional Jet Series 100 & 440) airplanes; or P/N 50033-001 for Model CL-600-2C10 (Regional Jet Series 700, 701, & 702) airplanes, Model CL-600-2D15 (Regional Jet Series 705) airplanes, and Model CL-600-2D24 (Regional Jet Series 900) airplanes; on the pitot and static lines of the ADC.

(i) Credit for Previous Actions

(1) This paragraph provides credit for the replacement required by paragraph (g)(1) of this AD, if the replacement was performed before November 23, 2011, using Bombardier Service Bulletin 601R-34-147, Revision A, dated November 3, 2009 (for Model CL-600-2B19 (Regional Jet Series 100 & 440) airplanes).

(2) This paragraph provides credit for the replacement required by paragraph (g)(2) of this AD, if the replacement was performed before November 23, 2011, using Bombardier Service Bulletin 670BA-34-030, dated April 1, 2009; or Revision A, dated November 3, 2009 (for Model CL-600-2C10 (Regional Jet Series 700, 701, & 702) airplanes, Model CL-600-2D15 (Regional Jet Series 705) airplanes, and Model CL-600-2D24 (Regional Jet Series 900) airplanes).

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, New York 11590; telephone: (516) 228-7300; fax: (516) 794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI Canadian Airworthiness Directive CF-2010-37, dated October 28, 2010, and the following service information, for related information.

(1) Bombardier Service Bulletin 601R-34-147, Revision B, dated March 8, 2011.

(2) Bombardier Service Bulletin 670BA-34-030, Revision B, dated March 23, 2010.

Issued in Renton, Washington, on April 6, 2012.
Ali Bahrami,
Manager, Transport Airplane Directorate, Aircraft Certification Service.

[FR Doc. 2012-9266 Filed 4-17-12; 8:45 am]

BILLING CODE 4910-13-P